NUCLEAR REGULATORY COMMISSION

[NRC-2019-0001]

Sunshine Act Meetings

TIME AND DATE: Weeks of January 7, 14, 21, 28, February 4, 11, 2019.

PLACE: Commissioners' Conference Room, 11555 Rockville Pike, Rockville, Maryland.

STATUS: Public and Closed.

MATTERS TO BE CONSIDERED:

Week of January 7, 2019

There are no meetings scheduled for the week of January 7, 2019.

Week of January 14, 2019—Tentative

There are no meetings scheduled for the week of January 14, 2019.

Week of January 21, 2019—Tentative

Thursday, January 24, 2019

10:00 a.m.—Strategic Programmatic Overview of the New Reactors Business Line (Public Meeting), (Contact: Donna Williams: 301-415-1322)

Week of January 28, 2019—Tentative

Monday, January 28, 2019

1:30 p.m.—NRC All Employees Meeting (Public Meeting), Marriott Bethesda North Hotel, 5701 Marinelli Road, Rockville, MD 20852

Thursday, January 31, 2019

9:00 a.m.—Transformation at the NRC: Innovation (Public Meeting), (Contact: June Cai: 301-415-1771)

This meeting will be webcast live at the Web address— http://www.nrc.gov/.

Week of February 4, 2019—Tentative

There are no meetings scheduled for the week of February 4, 2019.

Week of February 11, 2019—Tentative

There are no meetings scheduled for the week of February 11, 2019.

For more information or to verify the status of meetings, contact Denise McGovern at 301-415-0681 or via email at Denise.McGovern@nrc.gov. The schedule for Commission meetings is subject to change on short notice.

The NRC Commission Meeting Schedule can be found on the internet at: http://www.nrc.gov/public-involve/public-meetings/schedule.html.

The NRC provides reasonable accommodation to individuals with disabilities where appropriate. If you need a reasonable accommodation to participate in these public meetings, or need this meeting notice or the transcript or other information from the public meetings in another format (e.g., braille, large print), please notify Kimberly Meyer-Chambers, NRC Disability Program Manager, at 301-287-0739, by videophone at 240-428-3217, or by email at Kimberly.Meyer-Chambers@nrc.gov. Determinations on requests for reasonable accommodation will be made on a case-by-case basis.

Members of the public may request to receive this information electronically. If you would like to be added to the distribution, please contact the Nuclear Regulatory Commission, Office of the Secretary, Washington, DC 20555 (301-415-1969), or by email at Wendy.Moore@nrc.gov or Diane.Garvin@nrc.gov.

Dated at Rockville, Maryland, this 3rd day of January, 2019.
For the Nuclear Regulatory Commission.
Denise L. McGovern
Policy Coordinator, Office of the Secretary.

[FR Doc. 2019-00594 Filed 1-29-19; 11:15 am]

BILLING CODE 7590-01-P